INTERNATIONAL TRADE COMMISSION

[Investigation Nos. 701-TA-477 and 731-TA-1180-1181 (Final)]

Bottom Mount Combination Refrigerator-Freezers From Korea and Mexico

Determinations

On the basis of the record ¹ developed in the subject investigations, the United States International Trade Commission (Commission) determines,² pursuant to sections 705(b) and 735(b) of the Tariff Act of 1930 (19 U.S.C. 1671d(b) and 1673d(b)) (the Act), that an industry in the United States is not materially injured or threatened with material injury, and the establishment of an industry in the United States is not materially retarded, by reason of imports of bottom mount combination refrigerator-freezers from Korea, provided for in subheadings 8418.10.00, 8418.21.00, 8418.99.40, and 8418.99.80 of the Harmonized Tariff Schedule of the United States, that the U.S. Department of Commerce (Commerce) has determined are subsidized by the Government of Korea and sold in the United States at less than fair value (LTFV). The Commission further determines that an industry in the United States is not materially injured or threatened with material injury, and the establishment of an industry in the United States is not materially retarded, by reason of imports from Mexico of bottom mount combination refrigerator-freezers, provided for in subheadings 8418.10.00, 8418.21.00, 8418.99.40, and 8418.99.80 of the Harmonized Tariff Schedule of the United States, that Commerce has determined are sold in the United States at LTFV.

¹ The record is defined in sec. 207.2(f) of the Commission's Rules of Practice and Procedure (19 CFR 207.2(f)).

² Chairman Deanna Tanner Okun not participating.

Background

The Commission instituted these investigations effective March 30, 2011, following receipt of a petition filed with the Commission and Commerce by Whirlpool Corp., Benton Harbor, MI. The final phase of the investigations was scheduled by the Commission following notification of preliminary determinations by Commerce that imports of bottom mount combination refrigerator-freezers from Korea were subsidized within the meaning of section 703(b) of the Act (19 U.S.C. 1671b(b)) and that imports of bottom mount combination refrigerator-freezers from Korea and Mexico were sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on November 23, 2011 (76 FR 72440). The hearing was held in Washington, DC, on March 13, 2012, and all persons who requested the opportunity were permitted to appear in person or by counsel.

The Commission transmitted its determinations in these investigations to the Secretary of Commerce on May 9, 2012. The views of the Commission are contained in USITC Publication 4318 (May 2012), entitled Bottom Mount Combination Refrigerator-Freezers from Korea and Mexico: Investigation Nos. 701-TA-477 and 731-TA-1180-1181 (Final).

Issued: May 9, 2012.
By order of the Commission.
James R. Holbein,
Secretary to the Commission.

[FR Doc. 2012-11684 Filed 5-14-12; 8:45 am]

BILLING CODE 7020-02-P